DEPARTMENT OF ENERGY

Federal Energy Regulatory Commission

[Docket No. RP04-254-000]

City of Hamilton, Ohio v. Texas Eastern Transmission, L.P.; Notice of Complaint

April 9, 2004.

Take notice that on April 7, 2004, the City of Hamilton, Ohio (Hamilton) filed a complaint against Texas Eastern Transmission, L.P. (Texas Eastern) pursuant to sections 5(a), 13, 14, and 16 of the Natural Gas Act, 15 U.S.C. 717d(a), 717l, 717m, and 717o, and rule 206 of the rules and regulations of the Federal Energy Regulatory Commission, 18 CFR 385.206 (2003). Hamilton alleges that Texas Eastern is violating Commission policy on market center development by employing a rate design and applying its tariff provisions in a way that severely impedes the natural formation of market centers and inhibits the flexible commercial interchange of natural gas. Hamilton alleges further that Texas Eastern's rate structure requires customers to pay for more transportation that they need because it is based on overly-expansive zones. Hamilton also alleges that Texas Eastern's rates violate the Commission's regulations by constraining shippers' rights to segmentation due to application of multiple fuel use charges, and violate the Commission's policies regarding backhauls.

Any person desiring to be heard or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. The answer to the complaint and all comments, interventions or protests must be filed on or before the comment date. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll-free at (866) 208-3676, or for TTY, contact (202) 502-8659. The answer to the complaint, comments, protests and interventions may be filed electronically via the Internet in lieu of paper; see 18 CFR 385.2001(a)(1)(iii) and the instructions on the Commission's Web site under the “e-Filing” link. The Commission strongly encourages electronic filings.

Comment Date: April 29, 2004.

Linda Mitry,
Acting Secretary.

[FR Doc. E4-837 Filed 4-14-04; 8:45 am]

BILLING CODE 6717-01-P